DEPARTMENT OF STATE

[Public Notice 7900]

The Designation of Abdallah Azzam Brigades, Also Known as Abdullah Azzam Brigades, Also Known as Ziyad al-Jarrah Battalions of the Abdullah Azzam Brigades, Also Known as Yusuf al-'Uyayri Battalions of the Abdullah Azzam Brigades as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Abdallah Azzam Brigades, and also known as Abdullah Azzam Brigades, also known as Ziyad al-Jarrah Battalions of the Abdullah Azzam Brigades, also known as Yusuf al-'Uyayri Battalions of the Abdullah Azzam Brigades.

Therefore, I hereby designate the aforementioned organization and its aliases as a foreign terrorist organization pursuant to section 219 of the INA.

This determination shall be published in the Federal Register.

Dated: May 8, 2012.
Thomas R. Nides,
Deputy Secretary of State.

[FR Doc. 2012-13106 Filed 5-29-12; 8:45 am]

BILLING CODE 4710-10-P